LIBRARY OF CONGRESS

Copyright Office

[Docket No. 2020-9]

Sovereign Immunity Study: Notice and Request for Public Comment

AGENCY: U.S. Copyright Office, Library of Congress.

ACTION: Notice of inquiry; extension of comment period.

SUMMARY: The U.S. Copyright Office is extending the deadline for the submission of reply comments and empirical research studies in response to the June 3 and June 24, 2020, notices regarding its state sovereign immunity policy study.

DATES: Written reply comments and empirical research studies in response to the notices published June 3, 2020, at 85 FR 34252, and June 24, 2020, at 85 FR 37961, must be received no later than 11:59 p.m. Eastern Time on October 22, 2020.

ADDRESSES: For reasons of government efficiency, the Copyright Office is using the regulations.gov system for the submission and posting of public comments in this proceeding. All comments are therefore to be submitted electronically through regulations.gov. Specific instructions for submitting comments are available on the Copyright Office website at http://www.copyright.gov/docs/sovereignimmunitystudy. If electronic submission of comments is not feasible due to lack of access to a computer and/or the internet, please contact the Office, using the contact information below, for special instructions.

FOR FURTHER INFORMATION CONTACT: Kevin Amer, Deputy General Counsel, kamer@copyright.gov; Mark T. Gray, Attorney-Advisor, mgray@copyright.gov; or Jalyce E. Mangum, Attorney-Advisor, jmang@copyright.gov. They can be reached by telephone at 202-707-3000.

SUPPLEMENTARY INFORMATION: On June 3, 2020, the U.S. Copyright Office issued a notice of inquiry (“NOI”) commencing a policy study on state sovereign immunity from copyright infringement suits.¹ Congress has requested that the Office “research this issue to determine whether there is sufficient basis for federal legislation abrogating State sovereign immunity when States infringe copyrights.” ² To assist Congress in making that assessment, the Office solicited public comment on several issues concerning the degree to which copyright owners face infringement from state actors today, whether such infringement is based on intentional or reckless conduct, and what remedies, if any, are available to copyright owners under state law.

¹ 85 FR 34252 (June 3, 2020).

² Letter from Sens. Thom Tillis & Patrick Leahy to Maria Strong, Acting Register of Copyrights, U.S.

Copyright Office at 1 (Apr. 28, 2020), https://www.copyright.gov/rulemaking/statesovereign-immunity/letter.pdf.

On June 24, 2020, the Office issued an additional notice providing for a second round of written comments to permit interested parties the opportunity to address any comments submitted in response to the NOI and to allow parties engaged in empirical research to complete and submit their findings.³ To ensure that members of the public have sufficient time to comment, and to ensure that the Office has the benefit of a complete record, the Office is extending the deadline for the submission of additional comments and/or empirical research to 11:59 p.m. Eastern Time on October 22, 2020.

³ 85 FR 37961 (June 24, 2020); see 85 FR at 34255.

Dated: September 24, 2020.
Regan A. Smith,
General Counsel and Associate Register of Copyrights.

[FR Doc. 2020-21566 Filed 9-28-20; 8:45 am]

BILLING CODE 1410-30-P